DEPARTMENT OF COMMERCE

Census Bureau

Proposed Information Collection; Comment Request; 2016 National Survey of Children's Health

AGENCY: U.S. Census Bureau, Commerce.

ACTION: Notice.

SUMMARY: The Department of Commerce, as part of its continuing effort to reduce paperwork and respondent burden, invites the general public and other Federal agencies to take this opportunity to comment on the proposed 2016 National Survey of Children's Health, as required by the Paperwork Reduction Act of 1995.

DATES: To ensure consideration, written comments must be submitted on or before January 29, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jason Fields, U.S. Census Bureau, ADDP, HQ-7H153, 4600 Silver Hill Road, Washington, DC 20233-0001 (301-763-2465 or via the Internet at Jason.M.Fields@census.gov).

SUPPLEMENTARY INFORMATION:

I. Abstract

Sponsored by the U.S. Department of Health and Human Services' (HHS') Health Resources Services Administration's Maternal and Child Health Bureau (HRSA MCHB), the National Survey of Children's Health (NSCH) is designed to produce data on the physical and emotional health of American children under 18 years of age. The NSCH collects information on factors related to the well-being of children, including access to health care, in-home medical care, family interactions, parental health, school and after-school experiences, and neighborhood characteristics. In 2011-2012, the NSCH also collected information to assess parents' awareness of, experience with, and interest in enrolling in Medicaid and the State Children's Health Insurance Program (CHIP).

The NSCH project plan divides the sample into two groups of respondents to facilitate mailout procedures. We also include plans to test incentive efficacy (the relative benefit for reducing survey non-response by providing $0, $2, $5 incentives as a token of appreciation), contact materials, and modifications to data collection strategies based on modeled information about internet access. Preliminary results from the NSCH pretest (administered from June-December 2015) were used to inform the decisions made regarding this first year 2016 NSCH production survey project plan. First, the amount of respondent incentives to gain cooperation and participation in the survey will be tested with the initial mailing. From the NSCH pretest, the results showed that there was no statistically significant difference in the response rates when respondents were provided $5 or $10 as incentives to complete the survey. The cost of incentives are balanced against the reduction in follow-up effort and cost required to collect the required data. With the results from the pretest failing to show a substantial benefit for the larger $10 incentive, smaller amounts will be evaluated during the 2016 NSCH. In the 2016 NSCH, sampled addresses will receive either a $2 or a $5 cash incentive or they will be part of the control group that does not receive a cash incentive.

In addition to testing incentives and developing materials, the pretest also served as a platform to evaluate two options for the mode of data collection. The pretest included a mail only mode of data collection where respondents were mailed an advance letter, then a paper questionnaire to screen households with children into the survey and then a follow-up topical paper questionnaire to collect detailed information for only one of the children in the household. The second mode tested in the pretest was a self-administered internet/Web instrument. In this mode of data collection, the respondent was mailed an advance letter and then a letter inviting them to go to the Internet data collection portal for the Census Bureau and complete both the screener and topical sections through a single Web interview instrument. In the pretest, we observed a good Web response rate of over 70%. There are significant cost savings for Web data collection over paper data collection, and based on the pretest results, the decision was made to move to a data collection plan where Web is the primary data collection mode (Web push), and is followed by a mailing of paper screener and topical interviews (mail) for non-responding households. This “Web push + mail” data collection plan will be applied to the full sample, with alternative treatment paths to move either more quickly or more slowly to paper follow-up. The Web push + mail treatment is structured so that all households will first have the chance to complete the NSCH online, and only non-respondents or those who call in to request a hard copy will be mailed a paper questionnaire. Initially, all sampled households will receive a letter inviting them to complete the Web-based survey instrument.

The second data collection strategy being tested is one where non-respondents will receive follow-up mailings strategically organized to target households who are more likely to have Web access (High-Web Group), and separately, those households who are less likely to have Web access (Low-Web Group). The High-Web Group will have additional attempts made to collect data using the online questionnaire before transitioning to paper follow-up, while the Low-Web Group will be mailed paper questionnaires after only the second Web invitation letter, in an attempt to acknowledge technological differences in respondent households, and expedite the collection of data from the full sample.

Third, we will test different branding preferences for the survey materials. The initial mailing will utilize standard U.S. Census Bureau formats and be signed by the Director of the Census Bureau. During the first follow-up mailing, we will test the efficacy of mail materials that use letterhead/logos from the U.S. Census Bureau and from the Health Resources Services Administration's Maternal and Child Health Bureau (HRSA MCHB). Before the third or fourth follow-up mailings, we plan to determine which branding was more effective and should be used in the future.

Finally, for respondents who experience technical problems with the Web instrument, have questions about the survey, or need other forms of assistance, the 2016 NSCH will have a telephone questionnaire assistance (TQA) line available. TQA staff will not only be able to answer respondent questions and concerns, but they will also have the ability to collect survey responses over the phone if the respondent calls in and would like to have interviewer assistance in completing the interview.

Regardless of collection mode, the survey design for the 2016 NSCH focuses on first collecting information about the children in the household and basic special health care needs, and then selecting a child from the household for follow-up to collect additional detailed topical information. We estimate that of the original 416,000 selected households, our target response rate of 70 percent will yield approximately 292,000 responses to the screener. We then estimate that 40 percent of households from the first phase of the screener will receive a topical questionnaire, and 70 percent of these households will complete the topical questionnaire, resulting in approximately 82,000 completed topical interviews. A household could be selected for one of three age-based topical surveys: 0 to 5 year old children, 6 to 11 year old children, or 12 to 17 year old children.

Census staff have developed a plan to select a production sample of approximately 416,000 households (addresses) from a Master Address File (MAF) based sampling frame, with split panels to test mode of administration (i.e., High-Web and Low-Web), contact material branding, and the use of cash incentives (i.e., treatments using $0, $2, or $5). From the pretest, we can expect a best-case overall response rate for the first-year production survey to be about 70 percent for the screener, and then 70 percent for the topical questionnaire.

The goal of the first-year production survey is to provide HRSA MCHB with the necessary data to produce national and state-based estimates on the health and well-being of children, their families, and their communities as well as estimates of the prevalence and impact of children with special health care needs.

II. Method of Collection

Web Push + Mail Treatment Groups

The production 2016 NSCH plan for a Web Push + Mail data collection design includes all 416,000 households receiving an initial invite with instructions on how to complete an English or Spanish language screening questionnaire via the Web. Those households who decide to complete the Web-based survey will be taken through the screening questionnaire to determine if they screen into one of the three topical instruments. If a household lists at least one child who is 0 to 17 years old in the screener, they will be directed into a topical questionnaire immediately after the last screener question. The Web Push + Mail production sample of 416,000 is broken out into three incentive groups: 104,000 household receiving no incentive, 104,000 households receiving a $2 incentive, and 208,000 households receiving a $5 incentive. No additional incentives are planned for subsequent follow-up reminders or paper questionnaire mailings Web Push + Mail treatment groups will not receive any additional incentives.

Follow-Up Reminder Design and Branding Evaluation

The NSCH historically was conducted in a partnership between the Health Services Resources Administration's Maternal and Child Health Bureau and the National Center for Health Statistics. As such, the survey information was sent to respondents under letterhead from the Department of Health and Human Services and the Centers for Disease Control and Prevention, with the Director of NCSH signing the letters to the respondent.

In the 2016 NSCH, we will test alternative branding to the standard contact utilized for Census Bureau surveys, which includes Census Bureau letterhead and the Census Director's signature. The first follow-up mailing, sent to non-responding households approximately three-weeks after their initial invitation to respond to the survey by Web, will be split into two groups. The first group will be sent a reminder to participate with their Web login and password under standard Census Bureau letterhead. The second group will be sent their reminder under a HRSA MCHB letterhead. The differential success of these reminder treatments will be evaluated during data collection and the program plans to responsively tailor future non-response follow-up correspondence. These results will also inform the design of contact strategies for future administrations of the NSCH.

Non-Response Follow-Up for the High-Web Group and Low-Web Group

Households that do not respond to the initial request or first follow-up request to complete the Web-based survey will then fall into one of two non-response follow-up groups: The High-Web group or Low-Web group. The High-Web group will receive three additional Web survey invitation letters requesting their participation in the survey prior to receiving their first paper screener questionnaire in the fourth follow-up mailing. The Low-Web Group will receive only one additional Web survey invitation letter prior to receiving their first paper screener questionnaire in the second follow-up mailing. Once a household receives a paper screener questionnaire, they will then have the option to either complete the Web-based survey or complete the mailed paper screener. If the household chooses to complete the mailed paper questionnaire, then they would then be considered part of the Mailout/Mailback Paper-and-Pencil Interviewing (PAPI) Treatment Group and would receive a paper topical questionnaire if there is at least one eligible child who is 0 to 17 years old listed on the screener. Non-response follow-up for the topical questionnaire will include three more mailings, each including the paper topical questionnaire.

III. Data

OMB Control Number: 0607-XXXX.

Form Number(s): NSCH-P-S1 (English Screener),

NSCH-P-T1 (English Topical for 0- to 5-year-old children),

NSCH-P-T2 (English Topical for 6- to 11-year-old children),

NSCH-P-T3 (English Topical for 12- to 17-year-old children),

NSCH-PS-S1 (Spanish Screener),

NSCH-PS-T1 (Spanish Topical for 0- to 5-year-old children),

NSCH-PS-T2 (Spanish Topical for 6- to 11-year-old children), and

NSCH-PS-T3 (Spanish Topical for 12- to 17-year-old children).

Type of Review: Regular submission.

Affected Public: Parents, researchers, policymakers, and family advocates.

Estimated Number of Respondents: 292,000 for the Screener and 82,000 for the Topical.

Estimated Time per Response: 5 minutes per screener response and 30 minutes per topical response.

Estimated Total Annual Burden Hours: 65,333 hours.

Estimated Total Annual Cost to Public: $2,333,333 ($7,000,000 over 3 years—not an even annual distribution).

Respondent's Obligation: Voluntary.

Legal Authority: Census Authority: 13 U.S.C. Section 8(b), HRSA MCHB Authority: 42 U.S.C., Chapter 7, Title V (Social Security Act).

Confidentiality: The data collected under this agreement are confidential under 13 U.S.C. Section 9. All access to Title 13 data from this survey is restricted to those holding Census Bureau Special Sworn Status pursuant to 13 U.S.C. Section 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 24, 2015.
Glenna Mickelson,
Management Analyst, Office of the Chief Information Officer.

[FR Doc. 2015-30287 Filed 11-27-15; 8:45 am]

BILLING CODE 3510-07-P